DEPARTMENT OF COMMERCE

National Oceanic and Atmospheric Administration

[RTID 0648-XE784]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Dolphin Wahoo Advisory Panel (AP) on April 22-23, 2025.

DATES: The Dolphin Wahoo Advisory Panel meeting will be held April 22, 2025, from 1 p.m. until 5 p.m., EDT and April 23, 2025, from 8:30 a.m. until 12 p.m., EDT.

ADDRESSES: Meeting address: The meetings will be held at the Town and County Inn, 2008 Savannah Highway, Charleston, SC, 29407.

The meeting will also be available via webinar. Registration is required. Webinar registration, an online public comment form, and briefing book materials will be available two weeks prior to the meeting at: https://safmc.net/advisory-panel-meetings/.

Council address: South Atlantic Fishery Management Council, 4055 Faber Place Drive, Suite 201, N Charleston, SC 29405.

FOR FURTHER INFORMATION CONTACT: John Hadley, Economist, SAFMC; phone: (843) 571-4366 or toll free: (866) SAFMC-10; fax: (843) 769-4520; email: john.hadley@safmc.net.

SUPPLEMENTARY INFORMATION:

Dolphin Wahoo Advisory Panel (AP) Meeting

The Dolphin Wahoo AP will review Regulatory Amendment 3 to the Dolphin Wahoo Fishery Management Plan (minimum size limit and recreational retention limits for dolphin), the For-Hire Electronic Reporting Improvement Amendment, the topic of for-hire limited entry, and the Council's Research Plan. The Dolphin Wahoo AP will also receive updates on the management strategy evaluation for dolphin being conducted by the NMFS Southeast Fisheries Science Center, recent Council actions, the Council's Citizen Science Program, Best Fishing Practices Program, and the Council's Lines of Communication initiative. The AP will provide input on other topics as needed.

Special Accommodations

These meetings are physically accessible to people with disabilities. Requests for auxiliary aid should be directed to the Council office (see ADDRESSES) 5 days prior to the meeting.

Note: The times and sequence specified in this agenda are subject to change.

Authority: 16 U.S.C. 1801 et seq.

Dated: March 24, 2025.
Rey Israel Marquez,
Acting Deputy Director, Office of Sustainable Fisheries, National Marine Fisheries Service.

[FR Doc. 2025-05340 Filed 3-27-25; 8:45 am]

BILLING CODE 3510-22-P